DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-0361.

Comments are invited on: (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Project: Zero Suicide in Health Systems Evaluation—New Package

The Substance Abuse and Mental Health Services Administration (SAMHSA) is requesting clearance for the new data collection associated with the Evaluation of the SAMHSA Zero Suicide in Health Systems (Zero Suicide Evaluation). Per the Public Health Services Act (42 U.S.C. 290bb-43), SAMHSA is required to evaluate the Zero Suicide grant, specifically (1) “evaluate the activities supported by grants awarded, disseminate, as appropriate, the findings from the evaluation; and (2) provide appropriate information, training, and technical assistance, as appropriate, to eligible entities that receive a grant under this section, in order to help such entities to meet the requirements of this section, including assistance with selection and implementation of evidence.”

The goal of the Zero Suicide program is reduction of suicide and suicide attempts across America, focusing on individuals who are 25 years and older. The purpose of this program is to implement the Zero Suicide intervention and prevention model for adults throughout a health system or systems. The Zero Suicide model is a comprehensive, multi-setting approach to suicide prevention in health. To accomplish this critical, lifesaving work, it is essential that the effectiveness of these programs be evaluated on an ongoing basis, with implementation of suicide prevention programs continually informed by high-quality evaluation results. SAMHSA will use this data to reduce suicide ideation, suicide attempts, and deaths due to suicide.

SAMHSA has awarded new grants and continued funding to 25 grantees, Cohort 5 (15 grantees) with project period of Sept 30, 2023, to Sept 29, 2028; and Cohort 4 (10 grantees; includes one tribal organization) with project period of March 31, 2021, to March 30, 2026. SAMHSA has requested funding for 11 grantees to be funded as Cohort 6 in the President's fiscal year 2025 budget.

The Zero Suicide Evaluation is designed to evaluate the implementation, effectiveness, and overall impact of the Zero Suicide program upon grantees in the United States. The evaluation will assess Zero Suicide program activities implemented by grantees and ultimately provide SAMHSA with the information needed to understand and document program effectiveness on reducing suicide morbidity and mortality, specifically among those who encounter the healthcare system. While acknowledging the lack of evidence for cultural adaptations to evidence-based and empirically supported treatments and interventions, and that research has not been conducted with historically marginalized and underserved communities (e.g., Black, Asian, Autistic, Lesbian, Gay, Bisexual, Transgender, Queer, and Intersex plus (LGBTQI+), and others), Zero Suicide pushes systems to ensure that clients' cultural contexts are considered and honored in what treatments are offered and how those treatments are adapted. Thus, with behavioral health equity as a central component woven throughout the Zero Suicide Framework, the proposed evaluation will ensure that each study includes specific behavioral health equity tenets to ensure a culturally specific understanding of Zero Suicide implementation, outcomes, and impacts.

The Zero Suicide Evaluation includes four studies: Systems Change, Workforce, Consumer Experience, and Impact. The Systems Change Study is designed to understand how grantees are implementing the Zero Suicide Program in accordance with the Zero Suicide Framework, the core activities accomplished, and indicators of sustainable systems change (i.e., policy and practice changes, infrastructure changes, organizational culture). The Systems Change Study will leverage two surveys: the Prevention Strategies Inventory (PSI), and the Behavioral Health Provider Survey (BHPS). Additionally, the Systems Change Study will be informed through Case Studies and Cost Sub-Studies, using Key Informant Interviews to gather information.

The purpose of the Workforce Study is to document staff awareness and perceptions associated with the Zero Suicide activities implemented by Zero Suicide-participating Healthcare Organizations (HCOs). This study also seeks to understand the utilization, outcomes, and sustainment of training programs intended to increase the knowledge, confidence, and skills among staff to address suicide, both in the short and long-term. The Workforce Study will be informed by several surveys: the Workforce Survey (WS), the Training Activity Summary Page (TASP), and the Training Utilization and Preservation Survey (TUPS).

The Consumer Experience Study will assess the relationship between Zero Suicide activities and key clinical outcomes (i.e., suicide risk, depression), along with consumer perceptions of care, access to care, services received, and treatment adherence. The Consumer Experience Study will be informed by the BHPS, Consumer Experience Survey (CES), Clinical Outcomes Form (COF), and Grantee Performance Data. The CES and the COF target and follow those receiving services through a Zero Suicide grantee from the point when they enroll in services to when they discharge from services.

The Impact Study will use secondary data and quasi-experimental designs to develop a control group and estimate the causal impact of the Zero Suicide Program on suicide morbidity and mortality.

Ultimately, the purpose of the Zero Suicide Evaluation is to build the program's knowledge base of effectiveness by thoroughly describing the implementation, outcomes, and impact of a program meant to reduce deaths by suicide.

The total annualized burden is an estimated 15,504 respondents for the Zero Suicide instruments, with a combined hourly estimate to be 4,902 hours. Burden estimates are based on the data collection requirements and the number of respondents. The estimated response burden to collect this information associated with the Zero Suicide Evaluation annualized over the requested 3-year clearance period is presented below:

Total and Annualized Averages: Respondents, Responses and Hours
Type of respondent | Form | Number of respondents per year | Responses per respondent | Total number of responses | Burden per response (hours) | Annual burden (hours) | Hourly wage rate | Total cost
Project Evaluator 1 | PSI | 40 | 4 | 160 | 1 | 160 | $61.53 | $9,845
Grantee/HCO administrator 2 | BHPS | 47 | 1 | 47 | 0.5 | 24 | 61.53 | 1,477
Grantee/HCO administrator 2 | KII-Case Studies | 7 | 1 | 7 | 1 | 7 | 61.53 | 431
HCO Staff 3 | KII-Case Studies | 27 | 1 | 27 | 1 | 27 | 26.81 | 724
Grantee/HCO administrator 2 | KII-Cost Sub studies | 2 | 1 | 2 | 1 | 2 | 61.53 | 123
HCO Staff 3 | WFS | 9,400 | 1 | 9,400 | 0.25 | 2,350 | 26.81 | 63,004
Project Evaluator1 | TASP | 40 | 10 | 400 | 0.25 | 100 | 36.67 | 3,667
HCO Staff 3 | TUPS-Baseline | 3,334 | 1 | 3,334 | 0.25 | 834 | 26.81 | 22,360
HCO Staff 3 | TUPS-6 month | 252 | 1 | 252 | 0.5 | 126 | 26.81 | 3,378
HCO Staff 3 | TUPS-12 month | 189 | 1 | 189 | 0.5 | 95 | 26.81 | 2,547
Clinicians | C-SIF | 180 | 8.3 | 1,494 | 0.25 | 374 | 57.21 | 21,397
Consumer | CES-Baseline | 1,128 | 1 | 1,128 | 0.4 | 451 | 7.25 | 3,270
Consumer | CES-6-month | 843 | 1 | 843 | 0.4 | 337 | 7.25 | 2,443
Consumer | C-KII | 15 | 1 | 15 | 1 | 15 | 7.25 | 109
Total |  | 15,504 |  | 17,298 |  | 4,902 |  | 134,773
Abbreviation: HCO=Healthcare Organization
¹ BLS OES May 2022 National Industry-Specific Occupation Employment and Wage Estimates average annual salary for Survey Researchers (code 19-3022); https://www.bls.gov/oes/cuSeetrrent/naics5_541720.htm
² BLS OES May 2022 National Industry-Specific Occupation Employment and Wage Estimates average annual salary for Medical and Health Services Managers (code 11-9111); https://www.bls.gov/oes/current/oes119111.htm
³ BLS OES May 2022 National Industry-Specific Occupation Employment and Wage Estimates average annual salary for Community and Social Service Occupations (code 29-1000); https://www.bls.gov/oes/current/oes210000.htm
⁴ BLS OES May 2022 National Industry-Specific Occupation Employment and Wage Estimates average annual salary for Health Diagnosing and Treating Practitioners (code 29-1000); https://www.bls.gov/oes/current/oes_nat.htm#29-0000
⁵ BLS OES May 2022 Characteristics of minimum wage workers, 2022; https://www.bls.gov/opub/reports/minimum-wage/2022/home.htm#:~:text=In%202022%2C%2078.7%20million%20workers,wage%20of%20%247.25%20per%20hour.

Send comments to SAMHSA Reports Clearance Officer, 5600 Fisher Lane, Room 15E45, Rockville, MD 20852 OR email him a copy at samhsapra@samhsa.hhs.gov. Written comments should be received by November 12, 2024.

Alicia Broadus,
Public Health Advisor.

[FR Doc. 2024-20435 Filed 9-10-24; 8:45 am]

BILLING CODE P